NATIONAL AERONAUTICS AND SPACE ADMINISTRATION

[Notice: 04-051]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Ms. Nancy Kaplan, Code VE, National Aeronautics and Space Administration, Washington, DC, 20546-0001.

FOR FURTHER INFORMATION CONTACT: Requests for additional information or copies of the information collection instrument(s) and instructions should be directed to Ms. Nancy Kaplan, NASA Reports Officer, NASA Headquarters, 300 E Street SW., Code VE, Washington, DC 20546, (202) 358-1372, nancy.kaplan@nasa.gov.

SUPPLEMENTARY INFORMATION:

I. Abstract

The National Aeronautics and Space Administration (NASA) is initiating a new collection designed to assess almost three years' worth of organizational climate initiatives at Marshall Space Flight Center (MSFC) in Huntsville, Alabama. The survey will attempt to measure several facets of the MSFC culture including safety, communication, and leadership, to see how successful previous cultural change activities have been. This survey is aligned with a larger effort within the Agency to assess organizational climate and culture issues, but has a slightly different focus due to the emphasis on culture issues specific to MSFC.

II. Method of Collection

NASA will collect this information electronically via a Web-based survey.

III. Data

Title: Organizational Climate Survey for NASA Marshall Space Flight Center.

OMB Number: 2700-XXXX.

Type of review: New collection.

Affected Public: Business or other for-profit; Federal Government.

Estimated Number of Respondents: 365.

Estimated Time Per Response: 20 minutes.

Estimated Total Annual Burden Hours: 121.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Patricia L. Dunnington,
Chief Information Officer, Office of the Administrator.

[FR Doc. 04-9033 Filed 4-20-04; 8:45 am]

BILLING CODE 7510-01-P